DEPARTMENT OF HOMELAND SECURITY

Federal Emergency Management Agency

[Docket ID FEMA-2021-0002; Internal Agency Docket No. FEMA-B-2129]

Proposed Flood Hazard Determinations; Correction

AGENCY: Federal Emergency Management Agency, Department of Homeland Security.

ACTION: Notice; correction.

SUMMARY: On May 7, 2021, FEMA published in the Federal Register a proposed flood hazard determination notice that contained an erroneous table. This notice provides corrections to that table to be used in lieu of the erroneous information. The table provided here represents the proposed flood hazard determinations and communities affected for Dallas County, Texas and Incorporated Areas.

DATES: Comments are to be submitted on or before September 8, 2021.

ADDRESSES: The Preliminary Flood Insurance Rate Map (FIRM), and where applicable, the Flood Insurance Study (FIS) report for each community are available for inspection at both the online location and the respective Community Map Repository address listed in the table below. Additionally, the current effective FIRM and FIS report for each community are accessible online through the FEMA Map Service Center at https://msc.fema.gov for comparison.

You may submit comments, identified by Docket No. FEMA-B-2129, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed in the table below, in accordance with Section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own, or pursuant to policies established by other Federal, State, or regional entities. These flood hazard determinations are used to meet the floodplain management requirements of the NFIP and are also used to calculate the appropriate flood insurance premium rates for new buildings built after the FIRM and FIS report become effective.

Use of a Scientific Resolution Panel (SRP) is available to communities in support of the appeal resolution process. SRPs are independent panels of experts in hydrology, hydraulics, and other pertinent sciences established to review conflicting scientific and technical data and provide recommendations for resolution. Use of the SRP may only be exercised after FEMA and local communities have been engaged in a collaborative consultation process for at least 60 days without a mutually acceptable resolution of an appeal. Additional information regarding the SRP process can be found online at https://floodsrp.org/pdfs/srp_fact_sheet.pdf.

The communities affected by the flood hazard determinations are provided in the table below. Any request for reconsideration of the revised flood hazard determinations shown on the Preliminary FIRM and FIS report that satisfies the data requirements outlined in 44 CFR 67.6(b) is considered an appeal. Comments unrelated to the flood hazard determinations will also be considered before the FIRM and FIS report are made final.

Correction

In the proposed flood hazard determination notice published at 86 FR 24642 in the May 7, 2021, issue of the Federal Register, FEMA published a table titled “Dallas County, Texas and Incorporated Areas”. This table contained inaccurate information as to the communities affected by the proposed flood hazard determinations featured in the table. In this document, FEMA is publishing a table containing the accurate information. The information provided below should be used in lieu of that previously published.

(Catalog of Federal Domestic Assistance No. 97.022, “Flood Insurance.”)

Michael M. Grimm,
Assistant Administrator for Risk Management, Department of Homeland Security, Federal Emergency Management Agency.

Community | Community map repository address
Dallas County, Texas and Incorporated Areas
Project: 20-06-0070S Preliminary Date: November 13, 2020
City of Carrollton | Engineering Department, 1945 East Jackson Road, Carrollton, TX 75006.
City of Cedar Hill | Public Works Department, 285 Uptown Boulevard, Cedar Hill, TX 75104.
City of Combine | City Hall, 123 Davis Road, Combine, TX 75159.
City of Coppell | City Engineering Department, 265 East Parkway Boulevard, Coppell, TX 75019.
City of Dallas | Dallas Water Utilities, Stormwater Operations, 320 East Jefferson Boulevard, Room 312, Dallas, TX 75203.
City of Duncanville | Public Works Department, 203 East Wheatland Road, Duncanville, TX 75116.
City of Farmers Branch | Public Works Department, 13000 William Dodson Parkway, Farmers Branch, TX 75234.
City of Grand Prairie | Municipal Complex, Stormwater Department, 300 West Main Street, Grand Prairie, TX 75050.
City of Hutchins | City Hall, 321 North Main Street, Hutchins, TX 75141.
City of Irving | Capital Improvement Program Department, 825 West Irving Boulevard, Irving, TX 75060.
City of Lancaster | Development Services, 700 East Main Street, Lancaster, TX 75146.
City of Lewisville | Engineering Division, 151 West Church Street, Lewisville, TX 75057.
City of Mesquite | Engineering Division, 1515 North Galloway Avenue, Mesquite, TX 75149.
City of Seagoville | City Hall, 702 North Highway 175, Seagoville, TX 75159.
City of University Park | University Park Community Development Department, 4420 Worcola Street, Dallas, TX 75206.
City of Wilmer | Public Works Department, 128 North Dallas Avenue, Wilmer, TX 75172.
Town of Addison | Service Center, Public Works and Engineering, 16801 Westgrove Drive, Addison, TX 75001.
Town of Highland Park | Engineering Department, 4700 Drexel Drive, Highland Park, TX 75205.
Town of Sunnyvale | Development Services Department, 127 North Collins Road, Sunnyvale, TX 75182.
Unincorporated Areas of Dallas County | Dallas County Public Works Department, 411 Elm Street, 4th Floor, Dallas, TX 75202.

[FR Doc. 2021-12126 Filed 6-9-21; 8:45 am]

BILLING CODE 9110-12-P